INTERNATIONAL TRADE COMMISSION

[USITC SE-12-023]

Sunshine Act Meeting

AGENCY HOLDING THE MEETING: United States International Trade Commission.

TIME AND DATE: August 9, 2012 at 1:00 p.m.

PLACE: Room 101, 500 E Street SW., Washington, DC 20436, Telephone: (202) 205-2000.

STATUS: Open to the public.

MATTERS TO BE CONSIDERED:

1. Agendas for future meetings: None

2. Minutes

3. Ratification List

4. Vote in Inv. No. 731-TA-1189 (Final)(Large Power Transformers from Korea). The Commission is currently scheduled to transmit its determination and Commissioners’ opinions to the Secretary of Commerce on or before August 24, 2012.

5. Outstanding action jackets: none

In accordance with Commission policy, subject matter listed above, not disposed of at the scheduled meeting, may be carried over to the agenda of the following meeting.

By order of the Commission.
Issued: July 26, 2012.
William R. Bishop,
Hearings and Meetings Coordinator.

[FR Doc. 2012-18699 Filed 7-27-12; 11:15 am]

BILLING CODE 7020-02-P